DEPARTMENT OF THE TREASURY

Submission for OMB Review; Comment Request

April 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 24, 2001 to be assured of consideration.

Internal Revenue Service (IRS)

OMB Number: 1545-0232.

Form Number: IRS Form 6497.

Type of Review: Extension.

Title: Information Return of Nontaxable Energy Grants or Subsidized Energy Financing.

Description: Form 6497 is used by any governmental agency or its agents that make nontaxable grants or subsidized financing for energy conservation or production programs. IRS uses the information from the form to ensure that recipients have not claimed tax credits or other benefits with respect to the grant or subsidized financing (no “double dipping”).

Respondents: Business or other for-profit, Federal Government, State, Local or Tribal Government.

Estimated Number of Recordkeepers: 250.

Estimated Burden Hours Per Recordkeeper:

Recordkeeping—2 hr. 23 min.

Learning about the law or the form—24 min.

Preparing, copying, and sending the form to the IRS—27 min.

Frequency of Response: Annually.

Estimated Total Reporting/Recordkeeping Burden: 810 hours.

OMB Number: 1545-0763.

Regulation Project Number: LR-200-76 Final.

Type of Review: Extension.

Title: Qualified Conservation Contributions.

Description: The information is necessary to comply with various substantative requirements of section 170(h), which describes situation in which a taypayer is entitled to an income tax deduction for a charitable contribution for conservation purposes of a partial interest in real estate.

Respondents: Business or other for-profit, Individuals or households, Not-for-profit institutions, Farms, Federal Government, State, Local or Tribal Government.

Estimated Number of Respondents/Recordkeeper: 1,000.

Estimated Burden Hours Per Recordkeeper: 1 hour, 15 minutes

Estimated Total Recordkeeping Burden: 1,250 hours.

OMB Number: 1545-1308.

Regulation Project Number: PS-260-82 Final.

Type of Review: Extension.

Title: Election, Revocation, Termination, and Tax Effect of Subchapter S Status.

Description: Sections 1.1362-1 through 1.1362-7 of the Income Tax Regulations provide the specific procedures and requirements necessary to implement section 1362, including the filing of various elections and statements with the Internal Revenue Service.

Respondents: Individuals or households, Business or other for-profit, Farms.

Estimated Number of Respondents/Recordkeeper: 133.

Estimated Burden Hours Per Respondent/Recordkeeper: 2 hours, 25 minutes.

Frequency of Response: On occasion.

Estimated Total Reporting/Recordkeeping Burden: 322 hours.

OMB Number: 1545-1595.

Revenue Procedure Number: Revenue Procedure 98-25.

Type of Review: Extension.

Title: Automatic Data Processing.

Description: Revenue Procedure 98-25 specifies the basic requirements that the IRS considers to be essential in cases where a taxpayer's records are maintained within an Automatic Data Processing System (ADP). If machine—sensible records are lost, stolen, destroyed, or materially inaccurate, the Revenue Procedure requires that a taxpayer promptly notify its District Director and submit a plan to replace the affected records. The District Director will notify the taxpayer of any objection(s) to the taxpayer's plan. Also, the Revenue Procedure provides that a taxpayer who maintains machine-sensible records may request to enter into a Record Retention Limitation Agreement (RRLA) with its District Director. The taxpayer's request must identify and describe those records the taxpayer proposes not to retain and explain why those records will not become material to the administration of any internal revenue law. The District Director will notify the taxpayer whether or not the District Director will enter into an RRLA. Finally, Revenue Procedure 98-25 provides that the District Director may conduct an evaluation of a taxpayer's machine-sensible records and may initiate testing to establish the authenticity, readability, completeness, and integrity of such records.

Respondents: Business or other for-profit, Individuals or households, Not-for-profit institutions, Farms, Federal Government, State, Local or Tribal Government.

Estimated Number of Respondents/Recordkeeper: 3,000.

Estimated Burden Hours Per Respondent/Recordkeeper: 40 hours.

Frequency of Response: On occasion.

Estimated Total Reporting/Recordkeeping Burden: 120,000 hours.

OMB Number: 1545-1722.

Form Number: IRS Form 8873.

Type of Review: Extension.

Title: Extraterritorial Income Exclusion.

Description: A taxpayer uses Form 8873 to claim the gross income exclusion provided for by section 114 of the Internal Revenue Code.

Respondents: Business or other for-profit, Individuals or households.

Estimated Number of Respondents/Recordkeeper: 1,000,000.

Estimated Burden Hours Per Respondent/Recordkeeper:

Recordkeeping 21— 21 hr., 45 min.

Learning about the law or the form—1 hr., 53 min.

Preparing, copying, assembling, and sending the form to the IRS—2 hr., 19 min.

Frequency of Response: Annually.

Estimated Total Reporting/Recordkeeping Burden: 25,970,000 hours.

Clearance Officer: Garrick Shear, Internal Revenue Service, Room 5244, 1111 Constitution Avenue, NW, Washington, DC 20224.

OMB Reviewer: Alexander T. Hunt(202) 395-7860, Office of Management and Budget, Room 10202, New Executive Office Building, Washington, DC 20503.

Mary A. Able,
Departmental Reports, Management Officer.

[FR Doc. 01-10126 Filed 4-23-01; 8:45 am]

BILLING CODE 4830-01-P